DEPARTMENT OF ENERGY

Federal Energy Regulatory Commission

Combined Notice of Filings #1

Take notice that the Commission received the following electric corporate filings:

Docket Numbers: EC16-47-000.

Applicants: American Transmission Company LLC, Duke-American Transmission Company, LLC, ATC Management Inc.

Description: Application for Authorization for Corporate Reorganization and Request for Confidential Treatment and Certain Waivers pursuant to Section 203 of the Federal Power Act of American Transmission Company LLC Transmission Company LLC.

Filed Date: 12/8/15.

Accession Number: 20151208-5186.

Comments Due: 5 p.m. ET 12/29/15.

Docket Numbers: EC15-98-000.

Applicants: Union Power Partners, L.P., Entergy Arkansas, Inc., Entergy Gulf States Louisiana, L.L.C., Entergy Texas, Inc.

Description: Response to November 24 and 25, 2015 Deficiency Letters of Entergy Services, Inc. on behalf of Union Power Partners, L.P., et. al.

Filed Date: 12/7/15.

Accession Number: 20151207-5261.

Comments Due: 5 p.m. ET 1/6/16.

Take notice that the Commission received the following exempt wholesale generator filings:

Docket Numbers: EG16-29-000.

Applicants: Avalon Solar Partners II LLC.

Description: Self-Certification of EWG of Avalon Solar Partners II LLC.

Filed Date: 12/8/15.

Accession Number: 20151208-5108.

Comments Due: 5 p.m. ET 12/29/15.

Take notice that the Commission received the following electric rate filings:

Docket Numbers: ER10-1714-007.

Applicants: LG&E Energy Marketing Inc.

Description: Supplement to June 30, 2015 Triennial Market Power Update for Central Region of LG&E Energy Marketing Inc.

Filed Date: 12/7/15.

Accession Number: 20151207-5130.

Comments Due: 5 p.m. ET 12/28/15.

Docket Numbers: ER15-1922-000.

Applicants: Entergy Gulf States Louisiana, L.L.C., Entergy Louisiana, LLC, Entergy New Orleans, Inc.

Description: Response to November 5, 2015 Deficiency Letter of Entergy Services, Inc. on behalf of the participating Entergy Operating Companies.

Filed Date: 12/7/15.

Accession Number: 20151207-5260.

Comments Due: 5 p.m. ET 12/28/15.

Docket Numbers: ER15-2741-000.

Applicants: Arizona Public Service Company.

Description: Report Filing: Refund Report to be effective N/A.

Filed Date: 12/8/15.

Accession Number: 20151208-5185.

Comments Due: 5 p.m. ET 12/29/15.

Docket Numbers: ER16-237-001.

Applicants: South Jersey Energy ISO9, LLC.

Description: Tariff Amendment: Supplement to Market-Based Rate Application and Tariff Amendment to be effective 11/3/2015.

Filed Date: 12/7/15.

Accession Number: 20151207-5206.

Comments Due: 5 p.m. ET 12/28/15.

Docket Numbers: ER16-238-001.

Applicants: South Jersey Energy ISO10, LLC.

Description: Tariff Amendment: Supplement to Market-Based Rate Application and Tariff Amendment to be effective 11/3/2015.

Filed Date: 12/7/15.

Accession Number: 20151207-5207.

Comments Due: 5 p.m. ET 12/28/15.

Docket Numbers: ER16-475-000.

Applicants: PJM Interconnection, L.L.C.

Description: § 205(d) Rate Filing: Original Interconnection Service Agreement No. 4303, Queue No. Z2-046/AA1-066 to be effective 11/6/2015.

Filed Date: 12/7/15.

Accession Number: 20151207-5200.

Comments Due: 5 p.m. ET 12/28/15.

Docket Numbers: ER16-476-000.

Applicants: AEP Texas Central Company.

Description: § 205(d) Rate Filing: TCC-Guadalupe Valley Electric Cooperative IA to be effective 11/17/2015.

Filed Date: 12/8/15.

Accession Number: 20151208-5056.

Comments Due: 5 p.m. ET 12/29/15.

Docket Numbers: ER16-477-000.

Applicants: AEP Texas North Company.

Description: § 205(d) Rate Filing: TNC-Oncor Electric Delivery Company First Amd & Restated IA LLC to be effective 11/10/2015.

Filed Date: 12/8/15.

Accession Number: 20151208-5057.

Comments Due: 5 p.m. ET 12/29/15.

Docket Numbers: ER16-478-000.

Applicants: Wheelabrator Saugus Inc.

Description: Notice of Cancellation of Power Sales Contract of Wheelabrator Saugus Inc.

Filed Date: 12/8/15.

Accession Number: 20151208-5073.

Comments Due: 5 p.m. ET 12/29/15.

Docket Numbers: ER16-479-000.

Applicants: Avalon Solar Partners II LLC.

Description: Baseline eTariff Filing: Application for MBR to be effective 12/10/2015.

Filed Date: 12/8/15.

Accession Number: 20151208-5091.

Comments Due: 5 p.m. ET 12/29/15.

Docket Numbers: ER16-480-000.

Applicants: PacifiCorp.

Description: § 205(d) Rate Filing: PacifiCorp Energy Carbon Decommissioning Construction Agmt Rev 2 to be effective 2/7/2016.

Filed Date: 12/8/15.

Accession Number: 20151208-5094.

Comments Due: 5 p.m. ET 12/29/15.

Docket Numbers: ER16-481-000.

Applicants: Pacific Gas and Electric Company.

Description: Notice of Termination of GSFA and GIA for Los Medanos Energy Center, LLC, Service Agreement No. 8 under PG&E FERC Electric Tariff Volume No. 5 of Pacific Gas and Electric Company.

Filed Date: 12/8/15.

Accession Number: 20151208-5123.

Comments Due: 5 p.m. ET 12/29/15.

Docket Numbers: ER16-482-000.

Applicants: Duke Energy Florida, LLC.

Description: § 205(d) Rate Filing: City of Williston NITSA Amendment OATT SA No. 146 to be effective 1/1/2016.

Filed Date: 12/8/15.

Accession Number: 20151208-5168.

Comments Due: 5 p.m. ET 12/29/15.

Take notice that the Commission received the following electric reliability filings:

Docket Numbers: RD16-3-000.

Applicants: North American Electric Reliability Corporation.

Description: Petition of the North American Electric Reliability Corporation for Approval of Revised Definitions of Terms Used in Reliability Standards.

Filed Date: 12/7/15.

Accession Number: 20151207-5262.

Comments Due: 5 p.m. ET 12/29/15.

Take notice that the Commission received the following electric reliability filings:

Docket Numbers: RR16-2-000.

Applicants: North American Electric Reliability Corporation.

Description: Petition of North American Electric Reliability Corporation for Approval of Proposed Rules of Procedure Revisions.

Filed Date: 12/7/15.

Accession Number: 20151207-5226.

Comments Due: 5 p.m. ET 12/28/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 8, 2015.
Nathaniel J. Davis, Sr.,
Deputy Secretary.

[FR Doc. 2015-31391 Filed 12-11-15; 8:45 am]

BILLING CODE 6717-01-P